INTERNATIONAL TRADE COMMISSION

19 CFR Part 220

Rules Relating to the Submission and Consideration of Petitions for Duty Suspensions and Reductions

AGENCY: United States International Trade Commission.

ACTION: Final rule.

SUMMARY: The United States International Trade Commission (Commission) is adopting as a final rule the interim rule published on September 30, 2016. The rule concerns the submission and consideration of petitions for duty suspensions and reductions under the American Manufacturing and Competitiveness Act of 2016.

DATES: Effective date: December 26, 2018.

FOR FURTHER INFORMATION CONTACT: Lisa R. Barton, Secretary, telephone (202) 205-2000 or William Gearhart, Esquire, Office of the General Counsel, United States International Trade Commission, telephone (202) 205-3091. Hearing-impaired individuals may obtain information on this matter by contacting the Commission's TDD terminal at 202-205-1810. Members of the public may obtain general information concerning the Commission by accessing its website at https://www.usitc gov.

SUPPLEMENTARY INFORMATION: The preamble below is designed to assist readers in understanding this final rule. This preamble provides background information and a regulatory analysis of the rule.

This rule is being promulgated in accordance with the Administrative Procedure Act (5 U.S.C. 553) (APA), and will be codified in 19 CFR part 220.

Background

Section 335 of the Tariff Act of 1930 (19 U.S.C. 1335) authorizes the Commission to adopt such reasonable procedures, rules and regulations as it deems necessary to carry out its functions and duties. In addition, section 3(b)(5) of the American Manufacturing Competitiveness Act of 2016 (19 U.S.C. 1332 note) (the Act) directs the Commission to prescribe and publish, in the Federal Register and on a publicly available internet website of the Commission, procedures to be complied with by members of the public in submitting petitions for duty suspensions and reductions under section 3(b)(1)(A) of the Act.

The Commission is adopting as a final rule, without change, the interim rule published in the Federal Register on September 30, 2016 (81 FR 67144) governing the submission and consideration of petitions for duty suspensions and reductions under the Act. In its notice announcing the interim rule, the Commission invited members of the public to file written comments on the rule. The Commission asked members of the public to file such comments no later than November 29, 2016; no written comments were filed.

The principal provisions of the Act relating to the submission and consideration of petitions for duty suspensions and reductions are set out in section 3 of the Act. Section 3 establishes a process for the submission and consideration of petitions for duty suspensions. It also lists the types of information that must be included in a petition, and requires that petitioners submit disclosure forms with respect to such duty suspensions and reductions. Section 3 requires the Commission to publish on its website all the petitions that contain the required information and the related disclosure forms. It also requires that the Commission provide opportunity for members of the public to submit comments to the Commission on the petitions published. Section 3 requires that the Commission submit preliminary and final reports on the petitions that meet the statutory requirements to the House Committee on Ways and Means and Senate Committee on Finance (the Committees), and it sets out the types of information to be included in those reports. Finally, section 3 sets out a timeline, in the form of specific dates or numbers of days, under which the Commission must complete each step in the process, beginning with the filing of petitions and ending with the submission of the Commission's final report.

The American Manufacturing Competitiveness Act provided for two periods during which the Commission would receive and consider petitions and submit reports to the Committees, with the first beginning no later than October 15, 2016, and the second beginning no later than October 15, 2019. The Commission submitted its report to the Committees on petitions received during this first period in August 2017. On September 13, 2018, the President signed the Miscellaneous Tariff Bill Act of 2018 (Pub. L. 115-239), that approved legislation implementing certain temporary duty suspensions and reductions based on the Commission's report. The duty suspensions and reductions became effective on October 13, 2018, and remain in effect through December 31, 2020.

The process under which the Commission received and considered petitions for duty suspensions and reductions was new with the American Manufacturing Competitiveness Act. Previously, the Commission had provided technical assistance to the Committees on duty suspension/reduction bills introduced by Members of Congress under procedures established by the Committees.

Possible Additional Amendments to Part 220

The Commission gained considerable experience in applying the interim rule to petitions submitted and considered with respect to its first report. Based on that experience, the Commission may propose several amendments to this final rule in the near future, with the intent that the amendments be in place before October 15, 2019. Should the Commission propose changes to part 220, the Commission expects to do so by first issuing a notice of proposed rulemaking and request for comments, and after considering those comments, by adopting a final rule.

Regulatory Analysis

The Commission has determined that this final rule does not meet the criteria described in section 3(f) of Executive Order 12866 (58 FR 51735, October 4, 1993) and thus does not constitute a “significant regulatory action” for purposes of the Executive Order.

The Regulatory Flexibility Act (5 U.S.C. 601 et seq.) is inapplicable to this rulemaking because it is not one for which a notice of proposed rulemaking is required under 5 U.S.C. 553 or any other statute.

This final rule does not contain federalism implications warranting the preparation of a federalism summary impact statement pursuant to Executive Order 13132 (64 FR 43255, August 10, 1999).

No actions are necessary under title II of the Unfunded Mandates Reform Act of 1995, Public Law 104-4 (2 U.S.C. 1531-1538), because the final rule will not result in the expenditure by state, local, and tribal governments, in the aggregate, or by the private sector, of $100,000,000 or more in any one year (adjusted annually for inflation), and will not significantly or uniquely affect small governments.

This final rule does not constitute a “major” rule as defined by section 251 of the Small Business Regulatory Enforcement Fairness Act of 1996 (5 U.S.C. 801 et seq.). Moreover, it is exempt from the reporting requirements of that Act because it contains rules of agency organization, procedure, or practice that do not substantially affect the rights or obligations of non-agency parties.

The rule does not contain any information collection requirements subject to the provisions of the Paperwork Reduction Act (44 U.S.C. 3501 et seq.).

PART 220—PROCESS FOR CONSIDERATION OF PETITIONS FOR DUTY SUSPENSIONS AND REDUCTIONS

Accordingly, the interim rule that was published at 81 FR 67144 on September 30, 2016, is adopted as a final rule without change.

By order of the Commission.
Lisa Barton,
Secretary to the Commission.

[FR Doc. 2018-27768 Filed 12-21-18; 8:45 am]

BILLING CODE 7020-02-P